DEPARTMENT OF ENERGY

Federal Energy Regulatory Commission

Combined Notice of Filings #1

Take notice that the Commission received the following exempt wholesale generator filings:

Docket Numbers: EG25-46-000.

Applicants: Bocanova Power LLC.

Description: Bocanova Power LLC submits Notice of Self-Certification of Exempt Wholesale Generator Status.

Filed Date: 11/27/24.

Accession Number: 20241127-5213.

Comment Date: 5 p.m. ET 12/18/24.

Take notice that the Commission received the following Complaints and Compliance filings in EL Dockets:

Docket Numbers: EL25-22-000.

Applicants: Advanced Energy United, American Clean Power Association, Solar Energy Industries Association, American Clean Power Association Solar Energy Industries Association Advanced Energy United v. PJM Interconnection, L.L.C.

Description: Complaint of American Clean Power Association, Solar Energy Industries Association, and Advanced Energy United v. PJM Interconnection, L.L.C.

Filed Date: 11/26/24.

Accession Number: 20241126-5340.

Comment Date: 5 p.m. ET 12/16/24.

Docket Numbers: EL25-23-000.

Applicants: Rio Grande Electric Cooperative, Inc.

Description: Petition for Declaratory Order of Rio Grande Electric Cooperative, Inc.

Filed Date: 11/26/24.

Accession Number: 20241126-5341.

Comment Date: 5 p.m. ET 12/17/24.

Take notice that the Commission received the following electric rate filings:

Docket Numbers: ER24-2034-001.

Applicants: GridLiance Heartland LLC.

Description: Compliance filing: Gridliance Heartland Further Order 2023 Compliance Filing to be effective 9/1/2024.

Filed Date: 11/27/24.

Accession Number: 20241127-5158.

Comment Date: 5 p.m. ET 12/18/24.

Docket Numbers: ER25-313-001; ER25-314-001; ER25-315-001.

Applicants: South River OnSite Generation, LLC, Martinsville OnSite Generation, LLC, Clyde Onsite Generation, LLC.

Description: Supplement to 10/31/2024, Clyde Onsite Generation, LLC submits tariff filing Notice of Change in Status and Tariff Revisions.

Filed Date: 11/22/24.

Accession Number: 20241122-5290.

Comment Date: 5 p.m. ET 12/13/24.

Docket Numbers: ER25-346-001.

Applicants: Public Service Company of Colorado.

Description: Tariff Amendment: 2024-11-27 Att O-SPS Formula Rates—Order 898—Errata Filing to be effective 1/1/2025.

Filed Date: 11/27/24.

Accession Number: 20241127-5151.

Comment Date: 5 p.m. ET 12/18/24.

Docket Numbers: ER25-580-000.

Applicants: Pacific Gas and Electric Company.

Description: § 205(d) Rate Filing: WDT SA 17: November 2024 WAPA Service Agreement Biannual Filing to be effective 2/1/2025.

Filed Date: 11/27/24.

Accession Number: 20241127-5001.

Comment Date: 5 p.m. ET 12/18/24.

Docket Numbers: ER25-581-000.

Applicants: Pacific Gas and Electric Company.

Description: § 205(d) Rate Filing: TO SA 59: November 2024 WAPA Interconnection Agreement Biannual Filing to be effective 2/1/2025.

Filed Date: 11/27/24.

Accession Number: 20241127-5002.

Comment Date: 5 p.m. ET 12/18/24.

Docket Numbers: ER25-582-000.

Applicants: NextEra Energy Transmission Southwest, LLC.

Description: § 205(d) Rate Filing: NextEra Energy Transmission Southwest, LLC Depreciation Rate Revisions to be effective 2/1/2025.

Filed Date: 11/27/24.

Accession Number: 20241127-5067.

Comment Date: 5 p.m. ET 12/18/24.

Docket Numbers: ER25-583-000.

Applicants: PJM Interconnection, L.L.C.

Description: § 205(d) Rate Filing: Ministerial Clean-up Filing of Tariff, Definitions R—S to be effective 12/3/2019.

Filed Date: 11/27/24.

Accession Number: 20241127-5093.

Comment Date: 5 p.m. ET 12/18/24.

Docket Numbers: ER25-584-000.

Applicants: Constellation Mystic Power, LLC.

Description: Compliance filing: Compliance Filing of Tariff Records to Implement ROE Settlement to be effective 6/1/2022.

Filed Date: 11/27/24.

Accession Number: 20241127-5136.

Comment Date: 5 p.m. ET 12/18/24.

Docket Numbers: ER25-586-000.

Applicants: PJM Interconnection, L.L.C.

Description: § 205(d) Rate Filing: Amended ISA, SA No. 2637; AF1-177 to be effective 1/27/2025.

Filed Date: 11/27/24.

Accession Number: 20241127-5144.

Comment Date: 5 p.m. ET 12/18/24.

Docket Numbers: ER25-588-000.

Applicants: Essential Power Newington, LLC.

Description: § 205(d) Rate Filing: IROL-CIP Rate Schedule to be effective 1/27/2025.

Filed Date: 11/27/24.

Accession Number: 20241127-5166.

Comment Date: 5 p.m. ET 12/18/24.

Docket Numbers: ER25-589-000.

Applicants: Tri-State Generation and Transmission Association, Inc.

Description: § 205(d) Rate Filing: Amendment to Rate Schedule FERC No. 57 to be effective 1/27/2025.

Filed Date: 11/27/24.

Accession Number: 20241127-5187.

Comment Date: 5 p.m. ET 12/18/24.

Docket Numbers: ER25-590-000.

Applicants: Pome BESS LLC.

Description: § 205(d) Rate Filing: POME BESS Section 205 Filing to be effective 12/31/9998.

Filed Date: 11/27/24.

Accession Number: 20241127-5240.

Comment Date: 5 p.m. ET 12/18/24.

Docket Numbers: ER25-591-000.

Applicants: Duke Energy Carolinas, LLC.

Description: § 205(d) Rate Filing: DEC-CEPCI RS No. 665 Reimbursement Agmt to be effective 2/1/2025.

Filed Date: 11/27/24.

Accession Number: 20241127-5245.

Comment Date: 5 p.m. ET 12/18/24.

Docket Numbers: ER25-592-000.

Applicants: Wisconsin Power and Light Company.

Description: Initial rate filing: WPL Rate Schedule for Blackstart Resource Services to be effective 1/27/2025.

Filed Date: 11/27/24.

Accession Number: 20241127-5255.

Comment Date: 5 p.m. ET 12/18/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 27, 2024.
Debbie-Anne A. Reese,
Secretary.

[FR Doc. 2024-28412 Filed 12-3-24; 8:45 am]

BILLING CODE 6717-01-P